DEPARTMENT OF TRANSPORTATION

Federal Aviation Administration

14 CFR Part 39

[Docket No. FAA-2004-18597; Directorate Identifier 2004-CE-21-AD]

RIN 2120-AA64

Airworthiness Directives; The New Piper Aircraft, Inc. Models PA-23-235, PA-23-250, and PA-E23-250 Airplanes

AGENCY: Federal Aviation Administration (FAA), DOT.

ACTION: Notice of proposed rulemaking (NPRM).

SUMMARY: The FAA proposes to supersede Airworthiness Directive (AD) 74-06-01, which applies to certain The New Piper Aircraft, Inc. (Piper) Models PA-23-235, PA-23-250, and PA-E23-250 airplanes equipped with Garrett Aviation Services (Garrett) (formerly AiResearch) turbosuperchargers installed under supplemental type certificate (STC) SA852WE, SA909WE, or SA978WE; or installed under Piper Aircraft Drawing Number 32016. AD 74-06-01 currently requires you to replace turbosupercharger oil tanks, install fire shrouds, seal all openings in the fire shrouds, and add drainage provisions in the oil tank fairings for airplane serial numbers 27-1 through 27-2504; and add drainage provisions in the air scoops on serial numbers 27-2505 and higher. This proposed AD is the result of a report of a fatal accident related to the breakdown of the turbocharger oil reservoir following a fire in the engine nacelle. Consequently, this proposed AD would require you to replace the oil reservoir and related hoses with a fireproof oil tank and fire-shielded hoses. We are issuing this proposed AD to prevent turbosupercharger oil reservoirs with inadequate fire resistance from failing when exposed to flame or exhaust gases. This failure could lead to an in-flight fire within the nacelle area penetrating the firewall and subsequent failure of the wing spar.

DATES: We must receive any comments on this proposed AD by November 22, 2004.

ADDRESSES: Use one of the following to submit comments on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-001.

• Fax: 1-202-493-2251.

• Hand Delivery: Room PL-401 on the plaza level of the Nassif Building, 400 Seventh Street, SW., Washington, DC, between 9 a.m. and 5 p.m., Monday through Friday, except Federal holidays.

You may get the service information identified in this proposed AD from:

—For any installation under supplemental type certificate (STC) SA852WE, SA909WE, or SA978WE: The Nordam Group, Nacelle/Thrust Reverser Division, 6911 N. Whirlpool Drive, Tulsa, OK. 74117; telephone: (918) 878-4000; facsimile: (918) 878-4808; and

—For any installation under Piper Aircraft Drawing Number 32016: The New Piper Aircraft, Inc., 2926 Piper Drive, Vero Beach, Florida, 32960; and The Nordam Group, Nacalle/Thrust Reverser Division, 6911 N. Whirlpool Drive, Tulsa, OK 74117; telephone: (918) 878-4000; facsimile: (918) 878-4808.

You may view the comments to this proposed AD in the AD docket on the Internet at http://dms.dot.gov.

FOR FURTHER INFORMATION CONTACT: Roger Pesuit, Aerospace Engineer, FAA, Los Angeles Aircraft Certification Office, 3960 Paramount Boulevard, Lakewood, CA 90712-4137; telephone: (562) 627-5251; facsimile: (562) 627-5210.

SUPPLEMENTARY INFORMATION:

Comments Invited

How do I comment on this proposed AD? We invite you to submit any written relevant data, views, or arguments regarding this proposal. Send your comments to an address listed under ADDRESSES. Include the docket number, “FAA-2004-18597; Directorate Identifier 2004-CE-21-AD” at the beginning of your comments. We will post all comments we receive, without change, to http://dms.dot.gov, including any personal information you provide. We will also post a report summarizing each substantive verbal contact with FAA personnel concerning this proposed rulemaking. Using the search function of our docket Web site, anyone can find and read the comments received into any of our dockets, including the name of the individual who sent the comment (or signed the comment on behalf of an association, business, labor union, etc.). This is docket number FAA-2004-18597. You may review the DOT's complete Privacy Act Statement in the Federal Register published on April 11, 2000 (65 FR 19477-78) or you may visit http://dms.dot.gov.

Are there any specific portions of this proposed AD I should pay attention to? We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Docket Information

Where can I go to view the docket information? You may view the AD docket that contains the proposal, any comments received, and any final disposition in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at http://dms.dot.gov. The comments will be available in the AD docket shortly after the DMS receives them.

Discussion

Has FAA taken any action to this point? The need to minimize fire hazards in the engine compartment on Piper Models PA-23-235, PA-23-250, and PA-E23-250 airplanes equipped with AiResearch turbosuperchargers installed under STC SA852WE, SA909WE, or SA978WE; or installed under Piper Aircraft Drawing 32016 caused FAA to issue AD 74-06-01, Amendment 39-1977. AD 74-06-01 currently requires the following on any Piper Models PA-23-235, PA-23-250, and PA-E23-250 airplanes equipped with AiResearch turbosuperchargers installed under STC SA852WE, SA909WE, or SA978WE; or installed under Piper Aircraft Drawing Number 32016:

• Replacing the existing turbosupercharger oil tanks;

• Installing fire shrouds;

• Sealing all openings in the fire shrouds;

• (For airplane serial numbers 27-1 through 27-2504) adding drainage provisions in the oil tank fairings; and

• (For airplane serial numbers 27-2505 and higher) adding drainage provisions in the air scoops.

What has happened since AD 74-06-01 to initiate this proposed action? The FAA has received a report of a fatal accident related to the breakdown of the turbosupercharger oil reservoir. A Piper Model PA 23-250 airplane equipped with the STC turbocharger installation was involved in a fatal accident. The accident investigation revealed a breakdown of the turbosupercharger oil reservoir. Examination of the aircraft wreckage revealed evidence of an in-flight fire where the turbosupercharger oil reservoir was burned to include the rear firewall portion of the reservoir allowing fire to move aft, softening the wing spar.

What is the potential impact if FAA took no action? Failure of the turbosupercharger oil reservoir when exposed to flame or exhaust gases could lead to an in-flight fire and failure of the wing spar.

Is there service information that applies to this subject? The following service information relates to this subject:

—For any installation under supplemental type certificate (STC) SA852WE, SA909WE, or SA978WE: Garrett has issued Service Bulletin No. 1002143, Revision A, dated June 18, 2004; and

—For any installation under Piper Aircraft Drawing Number 32016: Piper has issued Vendor Service Publication No. 166, dated August 20, 2004.

What are the provisions of this service information? The service information includes procedures for:

—replacing the oil reservoir (part number (P/N) 286-P23-028-81 or 286-P23-028-111) with a fireproof oil tank (P/N 10ND79200-1 or 10ND79200-3); and

—replacing the oil reservoir hoses with fire-shielded hoses.

FAA's Determination and Requirements of This Proposed AD

What has FAA decided? We have evaluated all pertinent information and identified an unsafe condition that is likely to exist or develop on other products of this same type design. Therefore, we are proposing AD action.

What would this proposed AD require? This proposed AD would supersede AD 74-06-01 with a new AD that would incorporate the actions in the previously-referenced service information.

How does the revision to 14 CFR part 39 affect this proposed AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact? We estimate that this proposed AD affects 250 airplanes in the U.S. registry.

What would be the cost impact of this proposed AD on owners/operators of the affected airplanes? We estimate the following costs to do this proposed modification:

Labor cost | Parts cost | Total cost per airplane | Total cost on U.S. operators
14 workhours × $65 per hour = $910 | $2,500 | $3,410 | $852,500

Regulatory Findings

Would this proposed AD impact various entities? We have determined that this proposed AD would not have federalism implications under Executive Order 13132. This proposed AD would not have a substantial direct effect on the States, on the relationship between the national Government and the States, or on the distribution of power and responsibilities among the various levels of government.

Would this proposed AD involve a significant rule or regulatory action? For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2004-CE-21” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 74-06-01, Amendment 39-1977, and by adding a new AD to read as follows:

The New Piper Aircraft, Inc.: Docket No. FAA-2004-18597; Directorate Identifier 2004-CE-21-AD.

When Is the Last Date I Can Submit Comments on This Proposed AD?

(a) We must receive comments on this proposed airworthiness directive (AD) by November 22, 2004.

What Other ADs Are Affected by This Action?

(b) This AD supersedes AD 74-06-01.

What Airplanes Are Affected by This AD?

(c) This AD affects Models PA-23-235, PA-23-250, and PA-E23-250 airplanes, all serial numbers, that are (1) certificated in any category; and (2) equipped with Garrett Aviation Services (Garrett) (formerly AiResearch) turbosuperchargers installed under supplemental type certificate (STC) SA852WE, SA909WE, or SA978WE; or installed under The New Piper, Inc. (Piper) Aircraft Drawing Number 32016.

Note: Piper manufactured the majority of affected airplanes with the turbocharger system. The turbocharger system installed under Piper Aircraft Drawing Number 32016 (STC SA909WE) was a factory option on the Piper Model PA-23-250 or PA-E23-250 with serial numbers 27-2505 through 27-3943.

What Is the Unsafe Condition Presented in This AD?

(d) This AD is the result of a report of a fatal accident related to the breakdown of the turbocharger oil reservoir due to a fire in the engine nacelle. The actions specified in this AD are intended to prevent turbosupercharger oil reservoirs with inadequate fire resistance from failing when exposed to flame or exhaust gases. This failure could lead to an in-flight fire within the nacelle area penetrating the firewall and subsequent failure of the wing spar.

What Must I Do To Address This Problem?

(e) To address this problem, you must do the following:

Actions | Compliance | Procedures
(1) For any turbosupercharger installation under supplemental type certificate (STC) SA852WE, SA909WE, or SA978WE: (i) replace any oil reservoir (part number (P/N) 286-P23-028-81 or 286-P23-028-111, or FAA-approved equivalent P/N) with a fireproof oil tank (P/N 10ND79200-1 or 10ND79200-3, or FAA-approved equivalent P/N); and (ii) replace the installed oil reservoir hoses with fire-shielded hoses. | Within the next 100 hours time-in-service (TIS) after the effective date of this AD, unless already done | Follow the procedures in Garrett Aviation Service Bulletin No. 1002143, Revision A, dated June 18, 2004.
(2) For any turbosupercharger installation under Piper Aircraft Drawing Number 32016: (i) replace any oil reservoir (P/N 286-P23-028-81 or 286-P23-028-111, or FAA-approved equivalent P/N) with a fireproof oil tank (P/N 10ND79200-1 or 10ND79200-3, or FAA-approved equivalent P/N); and (ii) replace the installed oil reservoir hoses with fire-shielded hoses. | Within the next 100 hours time-in-service (TIS) after the effective date of this AD, unless already done | Follow the procedures in The New Piper Aircraft, Inc. Vendor Service Publication No. 166, dated August 20, 2004, and the procedures in Garrett Aviation Service Bulletin No. 1002143, Revision A, dated June 18, 2004.
(3) For any turbosupercharger installation under STC SA852WE, SA909WE, or SA978WE; or Piper Aircraft Drawing Number 32016: Do not install any oil reservoir (P/N 286-P23-028-81 or 286-P23-028-111, or FAA-approved equivalent P/N) or any oil reservoir hose that is not fire-shielded. | As of the effective date of this AD | Not Applicable.

May I Request an Alternative Method of Compliance?

(f) You may request a different method of compliance or a different compliance time for this AD by following the procedures in 14 CFR 39.19. Unless FAA authorizes otherwise, send your request to your principal inspector. The principal inspector may add comments and will send your request to the Manager, Los Angeles Aircraft Certification Office (ACO), FAA. For information on any already approved alternative methods of compliance, contact Roger Pesuit, Aerospace Engineer, FAA, Los Angeles ACO, 3960 Paramount Boulevard, Lakewood, CA 90712-4137; telephone: (562) 627-5251; facsimile: (562) 627-5210.

May I Get Copies of the Documents Referenced in This AD?

(g) You may get copies of the documents referenced in this AD from (for any installation under STC SA852WE, SA909WE, or SA978WE) The Nordam Group Nacelle/Thrust Reverser Systems Division, 6911 N. Whirlpool Drive, Tulsa, OK 74117 telephone: (918) 878-4000; facsimile: (918) 878-4808; and (for any installation under Piper Aircraft Drawing Number 32016) The New Piper Aircraft, Inc., 2926 Piper Drive, Vero Beach, Florida, 32960; and The Nordam Group Nacalle/Thrust Reverser Systems Division, 6911 N. Whirlpool Drive, Tulsa, OK. 74117 telephone: (918) 878-4000; facsimile: (918) 878-4808. You may view the AD docket at the Docket Management Facility; U.S. Department of Transportation, 400 Seventh Street, SW., Nassif Building, Room PL-401, Washington, DC, or on the Internet at http://dms.dot.gov.

Issued in Kansas City, Missouri, on September 16, 2004.
Dorenda D. Baker,
Manager, Small Airplane Directorate, Aircraft Certification Service.

[FR Doc. 04-21274 Filed 9-21-04; 8:45 am]

BILLING CODE 4910-13-P